ENVIRONMENTAL PROTECTION AGENCY

[ER-FRL-8587-4]

Environmental Impact Statements and Regulations; Availability of EPA Comments

Availability of EPA comments prepared pursuant to the Environmental Review Process (ERP), under section 309 of the Clean Air Act and Section 102(2) (c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080291, ERP No. D-AFS-J65522-CO, Colorado Roadless Areas Rulemaking, Proposes to Promulgate a State-Specific Rule to Manage Roadless Values and Characteristics, Colorado Forests with Roadless Areas include: Arapaho and Roosevelt: Grand Mesa, Uncompahgre, and Gunnison; Manti-La Sal (portion in Colorado); Pike and San Isabel; Rio Grande; Routt: San Juan; and White River National Forests, CO.

Summary: EPA expressed environmental concerns about potential impacts to air quality, especially visibility and water quality from new roads, and the number of acres at risk to the establishment of invasive plants from ground-disturbing activities within the Colorado Roadless Areas. Rating EC2.

EIS No. 20080346, ERP No. D-USN-L11039-WA, Naval Sea Systems Command (NAVSEA). Naval Undersea Warfare Center (NUWC), Keyport Complex Extension, Propose to Extend the Operational Areas, Three Distinct Range Sites: Keyport Range Site; Dabob Bay Range Complex (DBRC) Site, Quinault Underwater Tracking Range Site, Gray Harbor, Jefferson, Kitsap and Mason Counties, WA.

Summary: EPA expressed environmental concerns about impacts to water quality and critical habitat in Puget Sound and to protected resources in the Olympic Coast National Marine Sanctuary. Rating EC2.

EIS No. 20080349, ERP No. D-AFS-K65346-CA, Round Valley Fuels Reduction and Vegetation Management Project, Proposes to Reduce Fuel and Manage Vegetation, Funding, Goosenest Ranger District, Klamath National Forest, Siskiyou County, CA.

Summary: EPA's review has identified no environmental impacts requiring substantive changes to the proposed action. Rating LO.

EIS No. 20080350, ERP No. D-NOA-E91026-00, PROGRAMMATIC EIS—Fishery Management Plan for Regulating Offshore Marine Aquaculture in the Gulf of Mexico, To Increase the Maximum Sustainable Yield (MSY) and Optimum Yield (OY), Implementation.

Summary: EPA expressed environmental concern about the potential for excess nutrients to cause organic loading within the water column. Rating EC1.

Final EISs

EIS No. 20080358, ERP No. F-SFW-G99007-TX, Williamson County Regional Habitat Conservation Plan, Application for an Incidental Take Permit, Williamson County, TX.

Summary: No formal comment letter was sent to the preparing agency.

EIS No. 20080371, ERP No. F-FAA-G59005-TX, ADOPTION—Northwest Corridor Light Rail Transit Line (LRT) to Irving/Dallas/Fort Worth International Airport, Construction, Dallas County, TX.

Summary: No formal EPA comment letter was sent to the preparing agency.

EIS No. 20080400, ERP No. F-DOE-J05080-MT, MATL 230-kV Transmission Line Project, To Construct, Operate, Maintain, and Connects a 230-kV Electric Transmission Line, Issuance of Presidential Permit for Right-to-Way Grant, Cascade, Teton, Chouteau, Pondera, Toole and Glacier Counties, MT.

Summary: EPA continues to have environmental concern about water quality impacts.

EIS No. 20080384, ERP No. FS-MMS-G02016-00, Gulf of Mexico Outer Continental Shelf Oil and Gas Lease Sales: 2009-2012 Western Planning Area Sales: 210 in 2009, 215 in 2010, and 218 in 2011, and Central Planning Area Sales: 208 in 2009, 213 in 2010, 216 in 2011, and 222 in 2012, TX, LA, MS, AL and FL.

Summary: No formal comment letter was sent to the preparing agency.

Dated: November 4, 2008.
Robert W. Hargrove,
Director, NEPA Compliance Division, Office of Federal Activities.

[FR Doc. E8-26667 Filed 11-6-08; 8:45 am]

BILLING CODE 6560-50-P